DEPARTMENT OF AGRICULTURE

Forest Service

Alabama Resource Advisory Committee

AGENCY: Forest Service, USDA.

ACTION: Notice of meeting.

SUMMARY: The Alabama Resource Advisory Committee (RAC) will meet in Montgomery, Alabama. The committee is authorized under the Secure Rural Schools and Community Self-Determination Act (the Act) and operates in compliance with the Federal Advisory Committee Act. The purpose of the committee is to improve collaborative relationships and to provide advice and recommendations to the Forest Service concerning projects and funding consistent with Title II of the Act. RAC information, including the meeting summary/minutes can be found at the following website: https://www.fs.usda.gov/main/alabama/workingtogether/advisorycommittees.

DATES: The meeting will be held Friday, June 7, 2019, from 10:00 a.m. to 12:00 p.m. All RAC meetings are subject to cancellation. For status of the meeting prior to attendance, please contact the person listed under For Further Information Contact.

ADDRESSES: The meeting will be held at the USDA Forest Service Supervisor's Office, Downstairs Conference Room, 2946 Chestnut Street, Montgomery, Alabama.

The meeting will be held via teleconference. For anyone who would like to attend by teleconference, please visit the website listed in the Summary section or contact Lisa Kamnikar at lkamnikar@fs.fed.us or Tammy Freeman Brown at tfreemanbrown@fs.fed.us.

Written comments may be submitted as described under Supplementary Information. All comments, including names and addresses when provided, are placed in the record and are available for public inspection and copying. The public may inspect comments received at the USDA Forest Service Supervisor's Office, 2946 Chestnut Street, Montgomery, Alabama. Please call ahead to facilitate entry into the building.

FOR FURTHER INFORMATION CONTACT: Lisa Kamnikar, Alabama RAC Coordinator, by phone at (334) 832-4470 ext. 114 or via email at lkamnikar@fs.fed.us or Tammy Freeman Brown, DFO, by phone (334) 832-4470 ext. 144 or via email at tfreemanbrown@fs.fed.us.

Individuals who use telecommunication devices for the deaf (TDD) may call the Federal Information Relay Service (FIRS) at 1-800-877-8339 between 8:00 a.m. and 8:00 p.m., Eastern Standard Time, Monday through Friday.

SUPPLEMENTARY INFORMATION: The purpose of the meeting is to:

1. Discuss mission and operating guidelines, and chairman responsibilities,

2. discuss the status of current approved projects, and

3. discuss Title II funding amounts and processes for project recommendation.

The meeting is open to the public. The agenda will include time for people to make oral statements of three minutes or less. Individuals wishing to make an oral statement should request in writing by May 31, 2019, to be scheduled on the agenda. Anyone who would like to bring related matters to the attention of the committee may file written statements with the committee staff before or after the meeting. Written comments and requests for time to make oral comments must be sent to Lisa Kamnikar, Alabama RAC Coordinator, 2946 Chestnut Street, Montgomery, Alabama 36107; by email to lkamnikar@fs.fed.us, or via facsimile to (334) 241-8111.

Meeting Accommodations: If you are a person requiring reasonable accommodation, please make requests in advance for sign language interpreting, assistive listening devices or other reasonable accommodation. For access to the facility or proceedings, please contact the person listed in the section titled For Further Information Contact. All reasonable accommodation requests are managed on a case by case basis.

Dated: March 25, 2019.
Allen Rowley,
Acting Associate Deputy Chief, National Forest System.

[FR Doc. 2019-09103 Filed 5-2-19; 8:45 am]

BILLING CODE 3411-15-P